DEPARTMENT OF THE TREASURY

Internal Revenue Service

26 CFR Part 1

[TD 9717]

RIN 1545-BL77

Allocation of Controlled Group Research Credit; Correction

AGENCY: Internal Revenue Service (IRS), Treasury.

ACTION: Final and temporary regulations; correction.

SUMMARY: This document contains corrections to final regulations (TD 9717) that were published in the Federal Register on Friday, April 3, 2015 (80 FR 18096). The final regulations are relating to the allocation of the credit for increasing research activities (research credit) to corporations and trades or businesses under common control (controlled groups).

DATES: This correction is effective April 27, 2015 and applicable April 3, 2015.

FOR FURTHER INFORMATION CONTACT: James Holmes at (202) 317-4137 (not a toll-free number).

SUPPLEMENTARY INFORMATION:

Background

The final regulations (TD 9717) that are the subject of this correction is under section 41 of the Internal Revenue Code.

Need for Correction

As published, the final regulation (TD 9717) contains errors that may prove to be misleading and are in need of clarification.

Correction of Publication

Accordingly, the final regulation (TD 9717), that are the subject of FR Doc. 2015-07331, are corrected as follows:

1. On page 18096, in the preamble, under paragraph heading “Background,” the last line, “Act” is corrected to read “American Taxpayer Relief Act of 2012, PL 112-240, H. R. 8 (the “Act”).

2. On page 18097, in the third column, under the paragraph heading “Explanation of Provisions”, the first full paragraph, fourth line of the paragraph, “credit determined under 41(a) for a” is corrected to read “credit determined under section 41(a) for a”.

Martin V. Franks,
Chief, Publications and Regulations Branch, Legal Processing Division, Associate Chief Counsel, (Procedure and Administration).

[FR Doc. 2015-09604 Filed 4-24-15; 8:45 am]

BILLING CODE 4830-01-P